DEPARTMENT OF COMMERCE

Foreign-Trade Zones Board

[B-73-2021]

Foreign-Trade Zone (FTZ) 262—Southaven, Mississippi; Notification of Proposed Production Activity; Avaya, Inc. (Kitting of Audio/Video Conferencing Equipment); Olive Branch, Mississippi

Avaya, Inc. (Avaya) submitted a notification of proposed production activity to the FTZ Board (the Board) for its facility in Olive Branch, Mississippi within FTZ 262. The notification conforming to the requirements of the Board's regulations (15 CFR 400.22) was received on November 5, 2021.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Wireless telephone sets (including telephone wi-fi card, and adapter); video phone sets (including telephone, power cords and cables, video cameras, paper inserts, and retail packaging); conference phone sets (including conference phone and phone base); telephone switching and routing sets (including phone, power cords and cables, connection hub or control units, extension ports, memory cards, paper inserts and retail packaging) with or without a camera; telephone system sets (including conference phone, connection hub, power cords, control units, memory cards, multiple port combination cards, modules, extension ports, printed paper informational insert) with or without cameras; and, digital camera sets (including camera, power cord, retail packaging, paper inserts, cables, hubs or combination) (duty rate is duty-free).

The proposed foreign-status materials and components include: Corrugated cartons; printed paper informational inserts; connection hubs; power adapters; conference phones; multi-line telephones; videophones; telephone base stations; telephone switches; control units; multiple port combination cards; memory cards for data storage; digital cameras; communication cables; and, power cords (duty rate ranges from duty-free to 2.6%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 27, 2021.

A copy of the notification will be available for public inspection in the “Online FTZ Information System” section of the Board's website.

For further information, contact Juanita Chen at juanita.chen@trade.gov.

Dated: November 12, 2021.
Elizabeth Whiteman,
Acting Executive Secretary.

[FR Doc. 2021-25100 Filed 11-16-21; 8:45 am]

BILLING CODE 3510-DS-P